DEPARTMENT OF TRANSPORTATION

Federal Aviation Administration

14 CFR Part 1

[Docket No. FAA-2012-0019; Amdt. No. 1-67]

RIN 2120-AK03

Removal of Category IIIa, IIIb, and IIIc Definitions; Delay of Effective Date and Reopening of Comment Period

AGENCY: Federal Aviation Administration (FAA), DOT.

ACTION: Direct final rule; delay of effective date and reopening of comment period.

SUMMARY: This action delays the effective date and reopens the comment period for a Direct Final Rule that was published on February 16, 2012 (77 FR 9163). In that document, the FAA published amendments to remove the definitions of Category IIIa, IIIb, and IIIc operations because the definitions are outdated and no longer used for aircraft certification or operational authorization. The International Aviation Civil Organization (ICAO) has requested additional time to adequately analyze the Direct Final Rule and prepare comments.

DATES: The effective date of the Direct Final Rule published on February 16, 2012 (77 FR 9163) is delayed from April 16, 2012, to June 12, 2012. If an adverse comment is received, the FAA will publish a timely withdrawal in the Federal Register.

The comment period of the Direct Final Rule published on February 16, 2012 (77 FR 9163) is reopened until May 14, 2012.

ADDRESSES: You may send comments identified by docket number (FAA-2012-0019) using any of the following methods:

• Federal eRulemaking Portal: Go to http://www.regulations.gov and follow the online instructions for sending your comments electronically.

• Mail: Send comments to Docket Operations, M-30; U.S. Department of Transportation (DOT), 1200 New Jersey Avenue SE., Room W12-140, West Building Ground Floor, Washington, DC 20590-0001.

• Hand Delivery or Courier: Take comments to Docket Operations in Room W12-140 of the West Building Ground Floor at 1200 New Jersey Avenue SE., Washington, DC, between 9 a.m. and 5 p.m., Monday through Friday, except Federal holidays.

• Fax: Fax comments to Docket Operations at 202-493-2251.

FOR FURTHER INFORMATION CONTACT: Thuy H. Cooper, ARM-106, Office of Rulemaking, Federal Aviation Administration, 800 Independence Avenue SW., Washington, DC 20591, telephone (202) 493-4415; email thuy.cooper@faa.gov.

SUPPLEMENTARY INFORMATION: See the “Additional Information” section for information on how to comment on this rule and how the FAA will handle comments received. The “Additional Information” section also contains related information about privacy and the docket. In addition, there is information on obtaining copies of related rulemaking documents.

Background

On February 7, 2012, the FAA issued Amendment No. 1-67, entitled “Removal of Category IIIa, IIIb, and IIIc Definitions” (77 FR 9163). The FAA requested that comments on that rule be received on or before March 19, 2012.

By letter dated March 16, 2012, ICAO requested that the FAA consider postponing the effective date of the rule until the rule is reviewed through an international process. ICAO stated that due to the short time frame, it was not in the position to understand the full implications of removing the Category IIIa, IIIb, and IIIc definitions. ICAO stated that additional time is necessary to adequately assess the impact of the Direct Final Rule and prepare comments.

Reopening of Comment Period

In accordance with § 11.47(c) of title 14, Code of Federal Regulations, the FAA has reviewed the request made by ICAO. The petitioner has shown a substantive interest in the rule and good cause for the reopening. The FAA has determined that reopening of the comment period is consistent with the public interest, and that good cause exists for taking this action.

Accordingly, the comment period for Amendment No. 1-67 is reopened until May 14, 2012.

Additional Information

A. Comments Invited

The FAA invites interested persons to participate in this rulemaking by submitting written comments, data, or views. The agency also invites comments relating to the economic, environmental, energy, or federalism impacts that might result from implementing the rule. The most helpful comments reference a specific portion of the Direct Final Rule, explain the reason for any recommended change, and include supporting data. To ensure the docket does not contain duplicate comments, commenters should send only one copy of written comments, or if comments are filed electronically, commenters should submit only one time.

The FAA will file in the docket all comments it receives, as well as a report summarizing each substantive public contact with FAA personnel concerning this rulemaking. Before acting on this rule, the FAA will consider all comments it receives on or before the closing date for comments. The FAA will consider comments filed after the comment period has closed if it is possible to do so without incurring expense or delay. The agency may change this rule in light of the comments it receives.

B. Availability of Rulemaking Documents

An electronic copy of rulemaking documents may be obtained from the Internet by—

1. Searching the Federal eRulemaking Portal (http://www.regulations.gov);

2. Visiting the FAA's Regulations and Policies web page at http://www.faa.gov/regulations_policies or

3. Accessing the Government Printing Office's web page at http://www.fdys.gov.

Copies may also be obtained by sending a request to the Federal Aviation Administration, Office of Rulemaking, ARM-1, 800 Independence Avenue SW., Washington, DC 20591, or by calling (202) 267-9680. Commenters must identify the docket or notice number of this rulemaking.

All documents the FAA considered in developing this rule may be accessed from the Internet through the Federal eRulemaking Portal referenced in item (1) above.

C. Privacy

The FAA will post all comments it receives, without change, to http://www.regulations.gov, including any personal information the commenter provides. Using the search function of the docket web site, anyone can find and read the electronic form of all comments received into any FAA docket, including the name of the individual sending the comment (or signing the comment for an association, business, labor union, etc.). DOT's complete Privacy Act Statement can be found in the Federal Register published on April 11, 2000 (65 FR 19477-19478), as well as at http://DocketsInfo.dot.gov.

D. Docket

Background documents or comments received may be read at http://www.regulations.gov at any time. Follow the online instructions for accessing the docket or Docket Operations in Room W12-140 of the West Building Ground Floor at 1200 New Jersey Avenue SE., Washington, DC, between 9 a.m. and 5 p.m., Monday through Friday, except Federal holidays.

Issued in Washington, DC, on April 5, 2012.
Pamela Hamilton-Powell,
Director, Office of Rulemaking.

[FR Doc. 2012-8678 Filed 4-12-12; 8:45 am]

BILLING CODE 4910-13-P